DEPARTMENT OF HEALTH AND HUMAN SERVICES

National Institutes of Health

Center for Scientific Review; Amended Notice of Meeting

Notice is hereby given of a change in the meeting of the Center for Scientific Review Special Emphasis Panel, April 1, 2004, 12 p.m. to April 1, 2004, 2 p.m., National Institutes of Health, 6701 Rockledge Drive, Bethesda, MD, 20892 which was published in the Federal Register on March 11, 2004, 69 FR 11646-11647.

The meeting will be held March 16, 2004. The meeting time and location remain the same. The meeting is closed to the public.

Dated: March 16, 2004.
LaVerne Y. Stringfield,
Director, Office of Federal Advisory Committee Policy.

[FR Doc. 04-6363 Filed 3-22-04; 8:45 am]

BILLING CODE 4140-01-M